DEPARTMENT OF ENERGY

Federal Energy Regulatory Commission

[Project No. 13652-001]

Gary and Rita Hall; Notice of Revocation of Exemption and Soliciting Comments, Motions to Intervene, and Protests

Take notice that the following hydroelectric proceeding has been initiated by the Commission:

a. Type of Proceeding: Revocation of exemption pursuant to Article 14.

b. Project No.: 13652-001.

c. Date Initiated: May 9, 2018.

d. Exemptee: Gary and Rita Hall.

e. Name of Project: Potter Creek Hydroelectric Project.

f. Location: The project was located on Potter Creek, in Flathead County, Montana, and occupied lands within the Flathead National Forest managed by the U.S. Forest Service (Forest Service).

g. Pursuant to: Article 14 and section 31(a) of the Federal Power Act.

h. Exemptee Contact: Rita Hall, P.O. Box 133, Olney, Montana 59927.

i. FERC Contact: Diana Shannon, (202) 502-6136 or diana.shannon@ferc.gov.

j. Deadline for filing comments, interventions, and protests is August 31, 2020.

The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426 if you are using the United States Postal Service, and to Secretary, Federal Energy Regulatory Commission, 12225 Wilkins Avenue, Rockville, Maryland 20852 if you are using any other carriers/couriers. The first page of any filing should include docket number P-13652-001.

k. Description of Proceeding: Article 14 of the exemption provides, in part, for the Commission to revoke the exemption if essential project property is removed or destroyed or becomes unfit for use without adequate replacement. On May 9, 2018, the Forest Service filed a report with the Commission indicating that project features, including the dam, were removed on October 20, 2017 by the Forest Service. Sediments were excavated, the historic channel was reshaped, erosion control measures were implemented, and the area was replanted with native shrubs. The exemptee did not file an application to surrender the exemption and neither the exemptee nor the Forest Service contacted the Commission before the project was removed and restoration work completed. Because essential project property was removed, and the area has been restored, we are providing notice of revocation pursuant to Article 14 of the exemption.

l. Filings may be viewed on the Commission's website at http://www.ferc.gov/docs-filing/elibrary.asp. Enter the docket number (P-13652-001) excluding the last three digits in the docket number field to access the documents. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .212 and .214. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests should relate to the surrender application that is the subject of this notice. Agencies may obtain copies of the application directly from the applicant. A copy of any protest or motion to intervene must be served upon each representative of the applicant specified in the particular application. If an intervener files comments or documents with the Commission relating to the merits of an issue that may affect the responsibilities of a particular resource agency, they must also serve a copy of the document on that resource agency.

Dated: July 30, 2020.
Nathaniel J. Davis, Sr.,
Deputy Secretary.

[FR Doc. 2020-17076 Filed 8-4-20; 8:45 am]

BILLING CODE 6717-01-P